DEPARTMENT OF ENERGY

Federal Energy Regulatory Commission

Notice of Application for Amendment of License and Soliciting Comments, Motions to Intervene, and Protests

April 12, 2006.

Take notice that the following application has been filed with the Commission and is available for public inspection:

a. Application Type: Amendment of License.

b. Project Number: P-1267-075.

c. Date Filed: March 8, 2006.

d. Applicant: Greenwood County, South Carolina.

e. Name of Project: Buzzard's Roost Hydroelectric Project.

f. Location: The project is located on the Saluda River in Greenwood, Laurens, and Newberry Counties, South Carolina. The project does not occupy any Federal or tribal lands.

g. Filed Pursuant to: Federal Power Act, 16 U.S.C. 791(a) 825(r) and 799 and 801.

h. Applicant Contact: Larry Smith, 600 Monument Street, P.O. Box P-103, Suite 102, Greenwood, SC 29646; phone: (864) 942-8556.

i. FERC Contact: Any questions on this notice should be addressed to Jon Cofrancesco at (202) 502-8951, or by e-mail: jon.cofrancesco@ferc.gov.

j. Deadline for Filing Comments and or Motions: May 3, 2006.

k. Description of the Application: Greenwood County requests Commission approval of a proposed change in the location of a public boat launch facility at Greenwood Lake from a site previously approved by the Commission in its Order Modifying And Approving Boat Launch Facility Under Article 416, issued May 11, 2001. Under the Commission order, the facility was to be installed in Newberry County just east of the border with Laurens County on Harrington Drive. Greenwood County now proposes to install the facility in Laurens County on River Fork Road adjacent to an existing public fishing pier, located southwest of Waterloo, South Carolina. Greenwood County also requests the Commission to relieve its obligation to construct a boat launch facility at the previous location once the facility is completed at the new proposed site.

l. Location of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, or for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (P-1267-075). All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See, 18 CFR 385.2001(a)(1)(iii) and the instructions on the Commission's Web site at http://www.ferc.gov under the “e-Filing” link.

Magalie R. Salas,
Secretary.

[FR Doc. E6-5820 Filed 4-18-06; 8:45 am]

BILLING CODE 6717-01-P